DEPARTMENT OF COMMERCE

Foreign-Trade Zones Board

[Docket 24-98]

Foreign-Trade Zone 169—Manatee County, FL, Application for Subzone Status, Aso Corporation (Bandages); Reopening of Comment Period

Notice is hereby given that the comment period regarding the application of the Manatee County Port Authority, grantee of FTZ 169, requesting special-purpose subzone status for the adhesive bandages manufacturing facility of Aso Corporation, located in Sarasota County, Florida (63 FR 26776, 5/14/98), has been reopened until August 28, 2000, to accept additional information from the applicant and interested parties.

Dated: August 8, 2000.
Dennis Puccinelli,
Executive Secretary.

[FR Doc. 00-20558 Filed 8-11-00; 8:45 am]

BILLING CODE 3510-DS-P